DEPARTMENT OF TRANSPORTATION

Federal Aviation Administration

Notice of Intent To Request Revision From the Office of Management and Budget of a Currently Approved Information Collection Activity, Request for Comments; Certificated Training Centers—Simulator Rule, Part 142

AGENCY: Federal Aviation Administration (FAA), DOT.

ACTION: Notice and request for comments.

SUMMARY: The FAA invites public comments about our intention to request the Office of Management and Budget (0MB) to approve a current information collection. To determine regulatory compliance, there is a need for airmen to maintain records of certain training and recentness of experience.

DATES: Please submit comments by May 30, 2008.

FOR FURTHER INFORMATION CONTACT: Carla Mauney on (202) 267-9895, or by e-mail at: Carla.Mauney@faa.gov.

SUPPLEMENTARY INFORMATION:

Federal Aviation Administration (FAA)

Title: Certificated Training Centers—Simulator Rule, Part 142.

Type of Request: Extension of an approved collection.

OMB Control Number: 2120-0570.

Forms(s): There are no FAA forms associated with this collection.

Affected Public: A total of 108 Respondents.

Frequency: The information is collected on occasion.

Estimated Average Burden per Response: Approximately 1177.5 hours per response.

Estimated Annual Burden Hours: An estimated 127,180 hours annually.

Abstract: To determine regulatory compliance, there is a need for airmen to maintain records of certain training and recentness of experience; training center have to maintain records of students' training, employee qualification and training, and training program approvals.

ADDRESSES: Send comments to the FAA at the following address: Ms. Carla Mauney, Room 712, Federal Aviation Administration, IT Enterprises Business Services Division, AES-200, 800 Independence Ave., SW., Washington, DC 20591.

Comments are Invited on: Whether the proposed collection of information is necessary for the proper performance of the functions of the Department, including whether the information will have practical utility; the accuracy of the Department's estimates of the burden of the proposed information collection; ways to enhance the quality, utility and clarity of the information to be collected; and ways to minimize the burden of the collection of information on respondents, including the use of automated collection techniques or other forms of information technology.

Issued in Washington, DC, on March 20, 2008.
Carla Mauney,
FAA Information Collection Clearance Officer, IT Enterprises Business Services Division, AES-200.

[FR Doc. E8-6342 Filed 3-28-08; 8:45 am]

BILLING CODE 4910-13-M